DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

Substance Abuse Prevention and Treatment Block Grant (SAPTBG) Regulations (45 CFR part 96) and FY2005-2007 Application Format—(OMB No. 0930-0080, Revision) —Sections 1921 through 1935 of the Public Health Service Act (U.S.C. 300x-21 to 300x-35) provide for annual allotments to assist States to plan, carry out, and evaluate activities to prevent and treat substance abuse and for related activities. Under the provisions of the law, States may receive allotments only after an application is submitted and approved by the Secretary, DHHS. For the Federal fiscal year 2005-2007 SAPT Block Grant application cycles, the Substance Abuse and Mental Health Services Administration (SAMHSA) will provide States with revised application guidance and instructions to implement changes made by 42 U.S.C. 290kk and 42 U.S.C. 300x-65, implemented by 45 CFR part 54 and 45 CFR 96.122(f)(5), and the recommendations of the Office of Management and Budget's Program Assessment Rating Tool (PART) analysis of the SAPT Block Grant program.

Revisions to the previously-approved application resulting from the authorizing legislation, new regulation, and PART analysis reflect the following changes: (1) In Section I, the Funding Agreements/Certifications (Form 3) are being amended to include the requirement of 42 U.S.C. 300x-65 and 45 CFR part 54; (2) In Section II.2, the annual report and plan includes a new reporting requirement, Goal #17, “Services Provided By Non-Governmental Organizations,” and Attachment J, “Charitable Choice Notice to Program Beneficiaries.” In Section II.4, the “Treatment Utilization Matrix (Form 7),” is being replaced with the “Treatment Utilization Matrix (Form 7A),” which includes clarification in its column headings to improve collection of number of persons served and the average cost of services for each modality. A column has been added to collect information on the number of State approved facilities in each level or category of service to facilitate understanding of the States' capacities. The information on number of persons served and treatment costs is being collected in response to the OMB PART analysis of the SAPT Block Grant. Form 7A replaces “Number of Persons Served (Form P1),” that appeared in Section IV-A, “Voluntary Treatment Performance Measures.” A new Form 7B, “Number of Persons Served (Unduplicated Count) of Persons Served for Alcohol and Other Drug Use in State Funded Services,” has been added to collect treatment utilization data by age, gender, and race/ethnicity in order to facilitate comparisons with the currently collected Forms 8 and 9. In Section III.7, the “Purchasing Services Checklist(s)” has been revised to include information on competitive and non-competitive contracts as well as information on the estimated percent of clients served and estimated percent of SAPT Block Grant expenditures. In prior year applications for SAPT Block Grant funds, Form 7, “Treatment Utilization Matrix,” and Form 12, “Treatment Capacity Matrix,” the States were required to provide 2 or more sub-State planning area utilization and capacity reports and a Statewide utilization and capacity report. SAMHSA has deleted the sub-State planning area reporting requirements for Form 7 and Form 12. SAMHSA has also deleted Form 10, “State Use of Needs Assessment Information Items,” and the Form 11 Supplement.

In Section IV-A, “Voluntary Treatment Performance Measures,” the “Number of Persons Served (Form P1)” has been revised and renamed as described in Section II.4. Form P2, “Employment Status,” Form P3, “Living Status,” Form P4 “Criminal Activity,” and Form P5, “Alcohol Use,” have been renamed Form T1 through T4, respectively. Form P6, “Marijuana Use,” Form P7, “Cocaine Use,” Form P8, “Amphetamine Use,” and P9, “Opiate Use,” have been replaced by Form T5, “Other Drug Use.” Form T-6, “Infectious Disease Performance Measure,” is a checklist to determine the degree to which the Single State Agency provides and/or coordinates delivery of appropriate infection control practices within its service system for substance abuse treatment and prevention services.

Form T-7, “Social Support for Recovery,” and Form T-8, “Retention,” were added to encourage States to report performance and outcome data consistent with SAMHSA's proposed performance measures. Each of the voluntary treatment performance measure forms (T1-T5, T7) includes a corresponding detail sheet (checklist) in which States will be asked to identify the source(s) of the performance data used and, if unable to provide such data, the State will be asked to identify the reason(s) why such data are unavailable. The accompanying detail sheets (checklists) will provide SAMHSA with a description of the States' data reporting capabilities and will provide SAMHSA with a baseline for determining the States' technical assistance needs with regard to data collection, analysis, and reporting.

In Section IV-B, the “Voluntary Prevention Performance Measures,” were revised to conform with SAMHSA's National Outcome Domains, as well as OMB-required outcome domains. Specific changes made are as follows: (1) “30 Day Substance Use (Form P10)” was renamed Form P6; (2) “Initiation of Substance Use (Form P11)” and “Intention/Expectation to Use (Form P12)” were deleted; (3) “Perception of Risk/Harm of Substance Use (Form P13)” was renamed Form P4 and was revised to include a 4-item (rather than 8-item) measurement scale; (4) “Attitudes About Substance Use (Form P14)” was renamed Form P5 and was revised to include a 4-item (rather than 8-item) measurement scale; and (5) “Number of Persons Served (Form P1),” “Number of Services by Service Types (Form P2),” and “Number of Evidence-Based Programs and Strategies (Form P3)” were added to encourage States to report performance and outcome data consistent with SAMHSA's National Outcome Domains, as well as OMB-required outcome domains. Additionally, on all forms that ask States to report data by race/ethnicity of persons served, the race/ethnicity categories were revised to conform with the OMB and Census categories.

In response to comments received from the public on the draft FFY 2005 application, the voluntary prevention form asking States to report on the retail availability of alcohol to minors was eliminated. Examples of some additional changes made based on State feedback are as follows: (1) The “Other evidence-based programs” category on Form P3 was expanded to include practices, policies and strategies; (2) The phrase “attach information describing any adaptations made” was deleted from Form P3; (3) The instructions on Forms P4, P5 and P6 were revised to clarify the reporting of pretest and posttest data for environmental and community prevention strategies; (4) The instructions on Forms P4, P5 and P6 were revised to clarify confidentiality issues in data reporting; and (5) Forms P4 and P5 were revised to include table cells for age groupings.

In addition, the submission includes approval for the information collection language requirements in the SAPT Block Grant regulations at 45 CFR part 96 and for the recordkeeping burden in 45 CFR 96.129(a)(13), which are currently approved under OMB control number 0930-0163.

Annual Reporting Burden
| Number of respondents | Responses per respondent | Hours per response | Total burden
Sections I-III—States and Territories | 60 | 1 | 470 | 28,200
Section IV-A | 40 | 1 | 40 | 1,600
Section IV-B | 20 | 1 | 56 | 1,120
Recordkeeping [45 CFR 96.129(a)(13)] | 60 | 1 | 16 | 960
Total | 60 |  |  | 31,880

Written comments and recommendations concerning the proposed information collection should be sent by August 18, 2004, to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: July 14, 2004.
Anna Marsh,
Executive Officer, SAMHSA.

[FR Doc. 04-16352 Filed 7-16-04; 8:45 am]

BILLING CODE 4162-20-P